DEPARTMENT OF TRANSPORTATION

Federal Aviation Administration

14 CFR Part 71

[Docket No. FAA-2004-19325; Airspace Docket No. 04-ACE-54]

Modification of Class E Airspace; Dodge City, KS

AGENCY: Federal Aviation Administration (FAA), DOT.

ACTION: Direct final rule; correction.

SUMMARY: This action corrects a direct final rule; request for comments that was published in the Federal Register on Tuesday, October 19, 2004, (69 FR 61439) (FR Doc. 04-23387). It corrects errors in the legal descriptions of the Class E airspace area designated as a surface area and the Class E airspace area extending upward from 700 feet above the surface at Dodge City, KS.

DATES: This direct final rule is effective on 0901 UTC, January 20, 2005.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register document 04-23387, published on Tuesday, October 19, 2004 (69 FR 61439), modified the Class E airspace area designated as a surface area and the Class E airspace area extending upward from 700 feet above the surface at Dodge City, KS. The modification corrected discrepancies in the Dodge City Regional Airport airport reference point (ARP) used in the legal descriptions, corrected the airspace dimensions to protect for diverse departures, established an extension to the airspace area extending upward from 700 feet above the surface and brought the legal descriptions of the Dodge City, KS Class E airspace areas into compliance with FAA Orders 7400.2E, Procedures for Handling Airspace Matters, and 8260.19C, Flight Procedures and Airspace. However, the Dodge City Regional Airport ARP has since been recomputed requiring a further revision to the Dodge City, KS Class E airspace areas.

Accordingly, pursuant to the authority delegated to me, the legal descriptions of the Class E airspace area designated as a surface area and the Class E airspace area extending upward from 700 feet above the surface at Dodge City, KS, as published in the Federal Register on Tuesday, October 19, 2004, (69 FR 61439) (FR Doc. 04-23387) are corrected as follows:

PART 71—[CORRECTED]

§ 71.1 [Corrected]

On page 61440, Column 2, change the third paragraph to read:

“ACE KS E2 Dodge City, KS

Dodge City Regional Airport, KS

(Lat. 37°45′53″ N., long. 99°58′00″ W.)

Within a 4.2-mile radius of Dodge City Regional Airport.”

On page 61440, Column 2, change the fifth paragraph to read:

“ACE KS E5 Dodge City, KS

Dodge City Regional Airport, KS

(Lat. 37°45′53″ N., long. 99°58′00″ W.)

Dodge City VORTAC

(Lat. 37°51′02″ N., long. 100°00′20″ W.)

That airspace extending upward from 700 feet above the surface within a 6.7-mile radius of Dodge City Regional Airport and within 1.9 miles each side of the Dodge City VORTAC 160° radial extending from the 6.7-mile radius of the airport to 17 miles southeast of the VORTAC.”

Issued in Kansas City, MO, on November 4, 2004.
Anthony D. Roetzel,
Acting Area Director, Western Flight Services Operations.

[FR Doc. 04-25700 Filed 11-19-04; 8:45 am]

BILLING CODE 4910-13-M